DEPARTMENT OF COMMERCE

National Oceanic and Atmospheric Administration

Membership of the National Oceanic and Atmospheric Administration Performance Review Board

AGENCY: National Oceanic and Atmospheric Administration (NOAA), Department of Commerce.

ACTION: Notice of Membership of the NOAA Performance Review Board.

SUMMARY: In accordance with 5 U.S.C. 4314(c)(4), NOAA announces the appointment of members who will serve on the NOAA Performance Review Board (PRB). The NOAA PRB is responsible for reviewing performance appraisals and ratings of Senior Executive Service Professional members and making written recommendations to the appointing authority on retention and compensation matters, including performance-based pay adjustments, awarding of bonuses, and reviewing recommendations for potential Presidential Rank Award nominees. The appointment of members to the NOAA PRB will be for a period of 12 months.

DATES: Effective Date: The effective date of service of the four new appointees to the NOAA Performance Review Board is September 30, 2011.

FOR FURTHER INFORMATION CONTACT: Omar Williams, Executive Resources Program Manager, Workforce Management Office, NOAA, 1305 East-West Highway, Silver Spring, Maryland 20910, (301) 713-6301.

SUPPLEMENTARY INFORMATION: The names and positions of the members of the NOAA PRB are set forth below:

Louisa Koch | Director, Office of Education, Office of Education.
Maureen E. Wylie | Chief Financial Officer, Office of the Chief Financial Officer.
Charles S. Baker | Deputy Assistant Administrator, NESDIS, National Environmental Satellite, Data and Information Service.
Russell F. Smith III | Deputy Assistant Secretary for International Fisheries, Office of the Under Secretary for Oceans and Atmosphere.
Christopher C. Cartwright | Chief Financial Officer, National Ocean Service.
David Robinson | Associate Director for Management Resources, National Institute of Standards and Technology, DOC.
Laura K. Furgione | Deputy Assistant Administrator for Weather Services, National Weather Service
John S. Gray, II | Director, Legislative Affairs, Office of Legislative and Intergovernmental Affairs.
Justin H. Kenney | Director of Communications and External Affairs, Office of Public and Constituent Affairs.
Craig McLean | Acting Assistant Administrator For Oceanic and Atmospheric Research, Ocean and Atmospheric Research.
Dr. Ned Cyr | Director, Office of Science and Technology National Marine Fisheries Service.

Dated: September 16, 2011.
Jane Lubchenco,
Under Secretary of Commerce for Oceans and Atmosphere.

[FR Doc. 2011-24833 Filed 9-22-11; 4:15 pm]

BILLING CODE 3510-12-P